DEPARTMENT OF TRANSPORTATION

Federal Aviation Administration

14 CFR Part 71

[Docket No. FAA-2008-0339; Airspace Docket No. 08-ASW-5]

Amendment of Class D and Class E Airspace; Altus AFB, OK

AGENCY: Federal Aviation Administration (FAA), DOT.

ACTION: Direct final rule; change of effective date; correction.

SUMMARY: This action changes the effective date and makes a correction to the direct final rule that amends Class D and Class E airspace at Altus AFB, OK, published in the Federal Register August 6, 2008 (73 FR 45605) Docket No. FAA-2008-0339. The effective date is changed to November 20, 2008, to allow additional time for charting. This action also makes a correction to the geographic coordinates of Altus AFB.

DATES: Effective Date: 0901 UTC, November 20, 2008. The Director of the Federal Register approves this incorporation by reference action under Title 1, Code of Federal Regulations, part 51, subject to the annual revision of FAA Order 7400.9 and publication of conforming amendments.

FOR FURTHER INFORMATION CONTACT: Gary Mallett, Central Service Center, System Support Group, Federal Aviation Administration, Southwest Region, 2601 Meacham Blvd., Fort Worth, TX 76193-0530; telephone (817) 222-4949.

SUPPLEMENTARY INFORMATION:

History

The FAA published a direct final rule with request for comments in the Federal Register August 6, 2008, (73 FR 45605), Docket No. FAA-2008-0339. Subsequent to publication, the FAA found that additional time was needed for charting. The effective date is changed to November 20, 2008, to allow additional time for charting. Also, there is a minor correction to the coordinates for the latitude/longitude of Altus AFB, OK.

Correction

In the Federal Register dated August 6, 2008, in Federal Register Docket No. FAA-2008-0339, the geographical coordinates of Altus AFB, OK are corrected to read:

Altus AFB, OK

(Lat. 34°39′59″ N., long. 99°16′05″ W)

Authority: 49 U.S.C. 106(g); 40103, 40113, 40120; E.O. 10854, 24 FR 9565, 3 CFR, 1959-1963 Comp., p. 389.

* * * * *

Issued in Fort Worth, TX, on September 9, 2008.
Donald R. Smith,
Manager, Operations Support Group, ATO Central Service Center.

[FR Doc. E8-21518 Filed 9-26-08; 8:45 am]

BILLING CODE 4910-13-P